BUREAU OF CONSUMER FINANCIAL PROTECTION

12 CFR Part 1090

[Docket No. CFPB-2012-0040]

RIN 3170-AA30

Defining Larger Participants of the Consumer Debt Collection Market; Correction

AGENCY: Bureau of Consumer Financial Protection.

ACTION: Final rule; correction.

SUMMARY: The Bureau of Consumer Financial Protection published in the Federal Register of October 31, 2012 a final rule amending the regulation defining larger participants of certain consumer financial product and service markets by adding a new section to define larger participants of a market for consumer debt collection. The final rule contained four typographical errors, which this document corrects.

DATES: This correcting amendment is effective on January 2, 2013.

FOR FURTHER INFORMATION CONTACT: Kali Bracey, Senior Counsel, (202) 435-7141, or Susan Torzilli, Attorney-Advisor, (202) 435-7464, Office of Nonbank Supervision, Bureau of Consumer Financial Protection, 1700 G Street NW., Washington, DC 20552.

SUPPLEMENTARY INFORMATION: The Bureau of Consumer Financial Protection (Bureau) published a final rule in the Federal Register of October 31, 2012 (77 FR 65775) amending 12 CFR part 1090 by adding a new section to define larger participants of a market for consumer debt collection. The final rule contained four typographical errors, which this document corrects. Three of these errors were incorrect cross-references. The other error was an omission of a subheading designation.

The Bureau finds that there is good cause to publish these corrections without seeking public comment. See 5 U.S.C. 553(b)(B). Public comment is unnecessary because the Bureau is correcting inadvertent, technical errors about which there is minimal, if any, basis for substantive disagreement.

Accordingly, in FR Doc. 2012-26467 published on October 31, 2012 (77 FR 65775), make the following corrections:

1. On page 65798, in the second column, in § 1090.105, in paragraph (iii)(C) of the definition of Annual receipts, remove the first reference to “(iii)(B)” and add “(ii)” in its place.

2. On page 65798, in the second column, in § 1090.105, in paragraph (iii)(C) of the definition of Annual receipts, remove the second reference to “(iii)(B)” and add “(ii)(B)” in its place.

3. On page 65798, in the second column, in § 1090.105, in paragraph (iii)(D) of the definition of Annual receipts, remove “(iii)(B)” and add “(ii)” in its place.

4. On page 65798, in the third column, add the paragraph designation “(b)” before “Test to define larger participants”.

Dated: November 28, 2012.
Richard Cordray,
Director, Bureau of Consumer Financial Protection.

[FR Doc. 2012-29438 Filed 12-6-12; 8:45 am]

BILLING CODE 4810-AM-P